DEPARTMENT OF STATE

[Public Notice 4489]

Notice of Meeting; United States International Telecommunication Advisory Committee, Telecommunication Standardization Sector (ITAC-T)

The Department of State announces an electronic meeting of the U.S. International Telecommunication Advisory Committee (ITAC). The purpose of the Committee is to advise the Department on matters related to telecommunication and information policy matters in preparation for international meetings pertaining to telecommunication and information issues.

An electronic meeting of the U.S. Study Group B will be held from November 21-26, 2003 to comment on and approve normal contributions to the ITU-T Study Group 13 meeting, which will be held February 3-13, 2004. Contributors to this U.S. Study Group B (USSG B) electronic meeting should obtain USSG B numbers from Marcie Geissinger, the USSG B secretary at (303) 499-2145 or at marciegeissinger@msn.com. Any contributions to this electronic meeting should be forwarded to Ms. Geissinger at the above e-mail address no later than November 21. Comments to the contributions may be made through close of business, Monday, November 24; contributors must respond to the comments by 12 noon EST, Tuesday, November 25. If there are no comments or if the response comments are not challenged by 5 pm EST, Tuesday, November 25, then the USSG B Chair or the Secretary will close the meeting on November 26 and indicate to each contributor that the contributions may be forwarded to the ITU-T not later than December 3, 2003.

If you are not currently on the USSG B's Study Group 13 reflector, you will not be able to receive the contributions and comments. If you wish to be added to the reflector, please contact Ms. Geissinger at the e-mail address above. If you wish to confirm that you are on the USSG B's Study Group 13 reflector, please send a message to listserv@almsntsa@state.gov leaving the subject blank and showing “review sgb-13” as the body of the message. The response to your email will be a list of persons on the SG B reflector with interest in Study Group 13. If you are not on the “sgb-13” reflector, you will not be able to review the list of persons on the reflector.

Dated: October 24, 2003.
Anne D. Jillson,
International Telecommunications and Information Policy, Department of State.

[FR Doc. 03-27422 Filed 10-30-03; 8:45 am]

BILLING CODE 4710-07-P